DEPARTMENT OF ENERGY

Federal Energy Regulatory Commission

[Docket No. RP03-625-000]

Chandeleur Pipe Line Company; Notice of Proposed Changes in FERC Gas Tariff

October 16, 2003.

Take notice that on September 30, 2003, Chandeleur Pipe Line Company (Chandeleur) tendered for filing as part of its FERC Gas Tariff, Second Revised Volume No. 1, Fourteenth Revised Sheet No. 5, to become effective on November 1, 2003.

Chandeleur states that the proposed changes would increase revenues from jurisdictional services by $3 million based on the 12-month period ending June 30, 2003 as adjusted.

Chandeleur further states that the principal reasons for the tariff change are: (1) Increased operations and maintenance expense, (2) increased cost of equity; and (3) interested transmission depreciation and net salvage rates.

Any person desiring to be heard or to protest said filing should file a motion to intervene or a protest with the Federal Energy Regulatory Commission, 888 First Street, NE., Washington, DC 20426, in accordance with Sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Comment Date: October 22, 2003.

Magalie R. Salas,
Secretary.

[FR Doc. E3-00106 Filed 10-23-03; 8:45 am]

BILLING CODE 6717-01-P